NUCLEAR REGULATORY COMMISSION

10 CFR Parts 50 and 52

RIN 3150-AI10

[NRC-2008-0122]

Making Changes to Emergency Plans for Nuclear Power Reactors

AGENCY: Nuclear Regulatory Commission.

ACTION: Regulatory guide; issuance.

SUMMARY: The U.S. Nuclear Regulatory Commission (NRC) is issuing a new regulatory guide (RG) 1.219, “Guidance on Making Changes to Emergency Plans for Nuclear Power Reactors.” This guide describes a method that the NRC staff considers acceptable to implement the requirements that relate to emergency preparedness and specifically to making changes to emergency response plans.

DATES: December 1, 2011.

ADDRESSES: You can access publicly available documents related to this regulatory guide using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-(800) 397-4209, (301) 415-4737, or by email to pdr.resource@nrc.gov. The regulatory guide is available in ADAMS under Accession Number ML102510626. The regulatory analysis may be found in ADAMS under Accession Number ML102510560.

• Federal Rulemaking Web Site: Public comments and supporting materials related to this regulatory guide can be found at http://www.regulations.gov by searching on Docket ID NRC-2008-0122.

Regulatory guides are not copyrighted, and Commission approval is not required to reproduce them.

FOR FURTHER INFORMATION CONTACT: Edward O'Donnell, Regulatory Guide Development Branch, Division of Engineering, Office of Nuclear Regulatory Research, U.S. Nuclear Regulatory Commission, Washington, DC 20555-0001; telephone: (301) 251-7455, email: Edward.ODonnell@nrc.gov.

SUPPLEMENTARY INFORMATION:

I. Introduction

The NRC is issuing a new guide in the agency's “Regulatory Guide” series. This series was developed to describe and make available to the public information such as methods that are acceptable to the NRC staff for implementing specific parts of the agency's regulations, techniques that the staff uses in evaluating specific problems or postulated accidents, and data that the staff needs in its review of applications for permits and licenses.

This guide describes a method that the NRC staff considers acceptable to implement the requirements in Title 10, Section 50.54(q), of the Code of Federal Regulations (10 CFR) part 50, “Domestic Licensing of Production and Utilization Facilities.” Requirements in 10 CFR 50.54(q)), “Conditions of Licenses,” relate to emergency preparedness and specifically to making changes to emergency response plans.

II. Further Information

Draft Guide (DG)-1237 was published in the Federal Register on May 18, 2009 (74 FR 23220), for a 60 day public comment period. The public comment period closed on August 3, 2009. Public comments on DG-1237 and the staff responses to the public comments are available in ADAMS under Accession Number ML102520241.

III. Backfitting and Issue Finality

This regulatory guide provides the NRC's first guidance on compliance with the revised provisions of 10 CFR 50.54(q). This regulation was recently published in the Federal Register (76 FR 72560; November 23, 2011) and will become effective on December 23, 2011. Licensees must implement the amended 10 CFR 50.54(q) by January 23, 2012. The statement of considerations for the final rule that amended 10 CFR 50.54(q) discussed compliance with applicable backfitting provisions (76 FR 72560; November 23, 2011 at Page 72594). The first issuance of guidance on a new rule does not constitute backfitting, inasmuch as the guidance must be consistent with the regulatory requirements in the new rule and the backfitting considerations applicable to the new rule must, as a matter of logic, also be applicable to this newly-issued guidance. Therefore, issuance of this new regulatory guide does not constitute issuance of “new” guidance within the meaning of the definition of “backfitting” in 10 CFR 50.109(a)(1), nor does the issuance of this new regulatory guide, by itself, constitute an action inconsistent with any of the issue finality provisions in 10 CFR part 52.

Dated at Rockville, Maryland, this 21st day of November 2011.
For the Nuclear Regulatory Commission.
Thomas H. Boyce,
Chief, Regulatory Guide Development Branch, Division of Engineering, Office of Nuclear Regulatory Research.

[FR Doc. 2011-30902 Filed 11-30-11; 8:45 am]

BILLING CODE 7590-01-P